DEPARTMENT OF ENERGY

Federal Energy Regulatory Commission

Sunshine Act Meeting

June 8, 2006.

The following notice of meeting is published pursuant to section 3(a) of the government in the Sunshine Act (Pub. L. 94-409), 5 U.S.C. 552b:

Agency Holding Meeting: Federal Energy Regulatory Commission.

Date and Time: June 15, 2006, 10 a.m.

Place: Room 2C, 888 First Street NE., Washington, DC 20426.

Status: Open.

Matters to be Considered: Agenda. *Note—Items listed on the agenda may be deleted without further notice

Contact person for more Information: Magalie R. Salas, Secretary, Telephone (202) 502-8400. For a recorded listing item stricken from or added to the meeting, call (202) 502-8627.

This is a list of matters to be considered by the Commission. It does not include a listing of all papers relevant to the items on the agenda; however, all public documents may be examined in the Public Reference Room.

906th—Meeting
Item No. | Docket No. | Company
Administrative Agenda
A-1 | AD02-1-000 | Agency Administrative Matters.
A-2 | AD02-7-000 | Customer Matters, Reliability, Security and Market Operations.
A-3 | AD06-3-000 | Energy Market Update.
Electric
E-1 | ER03-563-055, ER03-563-030 | Devon Power LLC, et al.
E-2 | ER06-847-000, ER05-1235-001 | MidAmerican Energy Company.
E-3 | OMITTED
E-4 | OMITTED
E-5 | ER06-557-000, ER06-557-001, ER06-557-002 | El Paso Electric Company.
E-6 | ER06-889-000 | PSEG Fossil LLC, PSEG Nuclear LLC, PSEG Energy Resources & Trade LLC.
E-7 | ER03-407-007 | California Independent System Operator Corporation.
E-8 | OMITTED
E-9 | ER97-2801-006, ER97-2801-008 | PacifiCorp.
| ER03-478-005, ER03-478-006, ER03-478-011 | PPM Energy, Inc.
| EL05-95-000 | PacifiCorp and PPM Energy, Inc.
E-10 | EC03-131-003, EC03-131-004 | Oklahoma Gas and Electric Company and NRG McClain LLC.
E-11 | OMITTED
E-12 | OMITTED
E-13 | OMITTED
E-14 | EL06-53-000, ER06-268-000, ER06-268-001, ER06-261-000, ER03-510-006 | Pacific Gas and Electric Company v. Delta Energy Center, LLC and Los Esteros Critical Energy Facility, LLC.
E-15 | EL06-65-000 | Roger and Emma Wahl v. Allamakee-Clayton Electric Cooperative.
E-16 | OMITTED
E-17 | OMITTED
E-18 | TX05-1-006 | East Kentucky Power Cooperative, Inc.
E-19 | ER06-506-002, ER06-506-003 | New York Independent System Operator, Inc.
E-20 | EL06-6-000 | Western Farmers Electric Cooperative.
Gas
G-1 | PL04-3-000 | Natural Gas Interchangeability.
G-2 | RM06-17-000 | Natural Gas Supply Association.
G-3 | RP05-618-002 | Colorado Interstate Gas Company.
G-4 | OMITTED
G-5 | TS04-280-002 | Jupiter Energy Corporation.
| TS05-10-000 | Cotton Valley Compression, L.L.C.
| TS05-3-000 | Texas Eastern Transmission, LP.
| TS05-19-000 | Chandeleur Pipe Line Company.
| TS05-21-000 | Sabine Pipe Line Company.
| TS05-17-000, OA05-1-000 | Thumb Electric Cooperative.
| TS05-15-000 | Discovery Gas Transmission Inc.
Hydro
H-1 | P-12641-000 | Mt. Hope Waterpower Project LLP.
H-2 | P-4244-021 | Northumberland Hydro Partners, L.P.
| P-10648-009 | Adirondack Hydro Development Corporation.
H-3 | P-12451-003 | SAF Hydroelectric, LLC.
H-4 | P-12462-003 | Indian River Power Supply, LLC.
| P-12430-002 | Alternative Light and Hydro Associates.
H-5 | P-2118-011 | Pacific Gas and Electric Company.
H-6 | P-1962-136 | Pacific Gas and Electric Company.
Certificates
C-1 | RM06-12-000 | Regulations for Filing Applications for Permits to Site Transmission Facilities.
C-2 | RM05-23-000, AD04-11-000 | Rate Regulation of Certain Natural Gas Storage Facilities.
C-3 | RM06-7-000 | Revisions to the Blanket Certificate Regulations and Clarification Regarding Rates.
C-4 | CP05-130-000, CP05-130-001, CP05-130-002 | Dominion Cove Point LNG, LP.
| CP05-132-000, CP05-132-001 | Dominion Cove Point LNG, LP.
| CP05-131-000, CP05-131-001 | Dominion Transmission, Inc.
C-5 | CP05-360-000 | Creole Trail LNG, L.P.
| CP05-357-000, CP05-357-001, CP05-357-002, CP05-358-000, CP05-359-000 | Cheniere Creole Trail Pipeline, L.P.
C-6 | CP05-396-000 | Sabine Pass LNG, L.P.
C-7 | CP04-411-000 | Crown Landing LLC.
| CP04-416-000 | Texas Eastern Transmission, LP.
C-8 | CP05-83-000 | Port Arthur LNG, L.P.
| CP05-84-000, CP05-84-001, CP05-85-000, CP05-86-000 | Port Arthur Pipeline, L.P.
C-9 | CP05-395-000 | Dominion Cove Point LNG, LP.
C-10 | CP06-26-000 | Dominion Cove Point LNG, LP.
C-11 | OMITTED

Magalie R. Salas,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Perkowski or David Reininger at 703-993-3100.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 06-5415 Filed 6-9-06; 3:54 pm]

BILLING CODE 6717-01-U